ENVIRONMENTAL PROTECTION AGENCY

[EPA-HQ-OPPT-2018-0409; FRL-9990-57]

Certain New Chemicals; Receipt and Status Information for October 2018

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 10/01/2018 to 10/31/2018.

DATES: Comments identified by the specific case number provided in this document must be received on or before May 6, 2019.

ADDRESSES: Submit your comments, identified by docket identification (ID) number EPA-HQ-OPPT-2018-0409, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 10/01/2018 to 10/31/2018. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995 (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs received by EPA during this period, Table I provides the following information (to the extent that such information is not subject to a CBI claim) on the notices received by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Received From 10/01/2018 to 10/31/2018
Case No. | Version | Received date | Manufacturer | Use | Chemical substance
J-19-0001 | 2 | 10/5/2018 | Xyleco | (S) Used to produce enzymes which will be used to saccharify agricultural waste to simple sugars | (S) Trichoderma reesei 3AX3-9.
J-19-0002 | 1 | 10/5/2018 | CBI | (G) Used for the manufacture of a chemical | (G) Genetically modified microorganism.
J-19-0003 | 1 | 10/5/2018 | CBI | (G) Used for the manufacture of a chemical | (G) Genetically modified microorganism.
J-19-0004 | 1 | 10/5/2018 | CBI | (G) Used for the manufacture of a chemical | (G) Genetically modified microorganism.
P-18-0235A | 5 | 10/3/2018 | CBI | (S) Component in automotive gasoline/transportation fuel for consumer use | (G) Naphtha Oils.
P-18-0309 | 7 | 10/19/2018 | Highland Logistics, LLC | (G) Latex applied to textiles for anti-odor and anti-microbial applications | (G) alkanedioic acid, 2-alkylene-, polymer with polyhaloaromatic arylate, sodium salt, hydroxyalkyl alkanoate, alkanoic acid, alkenyl-hydroxypoly(oxy-1,2-ethanediyl-alkenyloxymethylalkyoxy polyoxy-1,2-ethandiyl.
P-18-0341 | 2 | 10/11/2018 | CBI | (G) Component in coatings | (G) Alkane dicarboxylic acid, polymer with alkoxylated polyalcohol, alkyl polyglycol, alkyl dialcohol, and functionalized carboxylic acid.
P-18-0342 | 2 | 10/11/2018 | CBI | (G) Component in coatings | (G) Alkane dicarboxylic acid, polymer with alkyl polyglycol, alkyl dialcohol, and functionalized carboxylic acid.
P-18-0343 | 2 | 10/11/2018 | CBI | (G) Component in coatings | (G) Alkane dicarboxylic acid, polymer with alkoxylated polyalcohol, and alkyl dialcohol, (hydroxy alkyl) ester.
P-18-0344 | 2 | 10/11/2018 | CBI | (G) Component in coatings | (G) Aromatic dicarboxylic acid, polymer with alkane dicarboxylic acid, alkoxylated polyalcohol, and alkyl dialcohol.
P-18-0365 | 3 | 10/30/2018 | CBI | (G) Superabsorbent polymer; (S) Manufacture for export only | (G) Starch, carboxymethyl ether, sodium salt, polymer with polycarboxylic acid.
P-18-0366 | 3 | 10/30/2018 | CBI | (G) Superabsorbent polymer; (S) Manufacture for export only | (G) Starch, carboxymethyl ether, sodium salt, polymer with mixed polycarboxylic acids.
P-18-0368 | 2 | 10/15/2018 | CBI | (G) Surfactant; (G) Protectant | (G) Polyfluoroalkanesulfonamido-(hydroxyethyl)-, phosphate ester compounds, amine salts.
P-18-0372 | 2 | 10/10/2018 | Hexion Inc | (G) Polyol; (S) Reactive modifier for Carbon; (S) Reactive modifier for Fiber bonding; (S) Reactive modifier for Friction; (S) Reactive modifier for Coated abrasives; (S) Reactive modifier for Glass Inserts; (S) Reactive Modifier for Refractory; (S) Reactive modifier for Bonded abrasives; (S) Reactive polyol for Sealants; (S) Reactive polyol for Adhesives; (S) Reactive polyol for 1 part coatings; (S) Reactive polyol for 2 part coatings; (S) Reactive polyol for composites; (G) Polyol | (G) Formaldehyde, polymer with phenol and heteroatom-substituted heteromonocycle, reaction products with 1,3-dioxolan-2-one and 4-methyl-1,3-dioxolan-2-one.
P-18-0373 | 2 | 10/10/2018 | Hexion Inc | (G) Polyol; (S) Reactive modifier for carbon; (S) Reactive modifier for friction; (S) Reactive modifier for fiber bonding; (S) Reactive modifier for coated abrasives; (S) Reactive modifier for glass inserts; (S) Reactive modifier for refractory; (S) Reactive modifier for bonded abrasives; (S) Reactive polyol for sealants; (S) Reactive polyol for adhesives; (S) Reactive polyol for 1-part coatings; (S) Reactive polyol for 2-part coatings; (S) Reactive polyol for composites; (G) Polyol | (G) Formaldehyde, polymer with 2-methyloxirane, oxirane, phenol and heteroatom-substituted heteromonocycle.
P-18-0374 | 3 | 10/18/2018 | Evonik Corporation | (S) Additive in a water-borne coating formulation; (S) Glass fiber sizing; (S) Fillers, pigments and glass bead treatment | (G) Cationic aminomodified alkylpolysiloxane.
P-18-0375 | 3 | 10/10/2018 | Pulcra Chemicals, LLC | (S) The PMN substance will be imported as part of an aqueous emulsion containing about 10 to 25 percent PMN substance with lubricant oils, nonionic surfactants and anionic surfactants. The emulsion will be used in the fat liquoring stage in the production of leather | (S) Fats and Glyceridic oils, vegetable, sulfonated, sodium salts.
P-18-0376 | 1 | 10/10/2018 | Sumitomo Chemical Advanced Technologies, LLC | (S) Substance used to improve physical properties in rubber products | (G) Thiosulfuric acid, aminoalkyl ester.
P-18-0378 | 2 | 10/4/2018 | CBI | (G) Industrial coatings additive | (G) Acrylic and Methacrylic acids and esters, polymer with alkenylimidazole, alkyl polyalkylene glycol, alkenylbenzene, alkylbenzeneperoxoic acid ester initiated, compds. with Dialkylaminoalkanol.
P-18-0380 | 3 | 10/12/2018 | CBI | (G) Automotive brake parts (contained use) | (G) Butanoic acid ethyl amine.
P-18-0392 | 4 | 10/15/2018 | CBI | (G) Intermediate chemical | (G) Heteromonocycle, alkenyl alkyl.
P-18-0404 | 2 | 10/19/2018 | Gurit (USA), Inc | (S) The substance is part of a mixture with other amines to act as a curative for a 2-part epoxy formulation. The intended use is the manufacture of wind turbine blades. During manufacture of the blades this substance forms part of the in-mold coating system which is applied to the blade mold and further laminated with glass (or carbon) reinforced fibres (GRP). The manufactured structure is then `cured' using heat and a chemical reaction occurs forming a solid composite structure | (G) alkylmultiheteroatom,2-functionalisedalkyl-2-hydroxyalkyl-, polymer with alkylheteroatom-multialkylfunctionalised carbomonocyleheteroatom and multiglycidylether difunctionalised polyalkylene glycol.
P-18-0404A | 3 | 10/30/2018 | Gurit (USA), Inc | (S) The substance is part of a mixture with other amines to act as a curative for a 2-part epoxy formulation. The intended use is the manufacture of wind turbine blades. During manufacture of the blades this substance forms part of the in-mold coating system which is applied to the blade mold and further laminated with glass (or carbon) reinforced fibres (GRP). The manufactured structure is then `cured' using heat and a chemical reaction occurs forming a solid composite structure | (G) alkylmultiheteroatom,2-functionalisedalkyl-2-hydroxyalkyl-, polymer with alkylheteroatom-multialkylfunctionalised carbomonocyleheteroatom and multiglycidylether difunctionalised polyalkylene glycol.
P-19-0001 | 2 | 10/1/2018 | Burgess Pigment Company | (G) Filler for plastic | (G) Aluminum silicate clay treated with siloxane (vinyl functionality).
P-19-0002 | 3 | 10/10/2018 | CBI | (S) Chemical Intermediate | (G) Polyaromatic symmetrical tetracarboxylic acid.
P-19-0003 | 2 | 10/19/2018 | Sabic Innovative Plastics US, LLC | (S) Chemical Intermediate | (G) Polyaromatic ether symmetrical dicarboxylic anhydride.
P-19-0004 | 2 | 10/19/2018 | Sabic Innovative Plastics US, LLC | (G) Molded parts and components | (G) Aromatic dianhydride, polymer with aromatic diamine and heteroatom bridged aromatic diamine, reaction products with aromatic anhydride.
P-19-0005 | 1 | 10/2/2018 | CBI | (S) Adhesive for automotive parts | (G) Phenol-formaldehyde epoxy, polymer with an alkyl polyether polysulfide.
P-19-0006 | 1 | 10/9/2018 | CBI | (G) Open, non-dispersive use | (G) Diisocyanate polymer blocked with alkoxyamine.
P-19-0007 | 1 | 10/16/2018 | Allnex USA, Inc | (S) Coating resin binder | (G) Alkenoic acid, alkyl-, hydroxyalkyl ester, polymer with alkyl-alkenoate, alkenylcarbomonocycle, hydroxyalkyl-alkenoate, alkyl substituted alkenoate, heteromonocycle and alkenoic acid, alkylperoxoate-initiated.
P-19-0007A | 2 | 10/25/2018 | Allnex USA, Inc | (S) Coating resin binder | (G) Alkenoic acid, alkyl-, hydroxyalkyl ester, polymer with alkyl-alkenoate, alkenylcarbomonocycle, hydroxyalkyl-alkenoate, alkyl substituted alkenoate, heteromonocycle and alkenoic acid, alkylperoxoate-initiated.
P-19-0008 | 1 | 10/22/2018 | Allnex USA, Inc | (S) The PMN substance is an isolated intermediate incorporated as a component in several allnex coating resin products used as additives for corrosion protection | (G) Substitued polyalkylenepolycarbomonocycle ester, polymer with dialkanolamine, (hydroxyalkoxy)carbonyl] derivs., (alkoxyalkoxy) alkanol-blocked.
P-19-0009 | 1 | 10/23/2018 | Allnex USA, Inc | (S) The PMN substance is used as a coating resin additive for corrosion protection | (G) Carbonmonocycles, polymer with haloalkyl substituted heteromonocycle and hydro-hydroxypoly[oxy(alkyl-alkanediyl)], dialkyl-alkanediamine-terminated, hydroxyalkylated, acetates (salts).
P-19-0010 | 1 | 10/29/2018 | Ashland, Inc | (G) Adhesive | (G) Hydrogenated fatty acid dimers, polymers with 1,1′-methylenebis[4-isocyanatobenzene], polypropylene glycol, polypropylene glycol ether with trimethylolpropane (3:1), and 1,3-propanediol, propylene glycol monomethacrylate-blocked.
SN-18-0016 | 2 | 10/10/2018 | Hexion Inc | (S) Reactive modifier for glass inserts; (S) Reactive modifier for refractory; (S) Reactive modifier for bonded abrasives; (S) Reactive polyol for sealants; (S) Reactive polyol for adhesives; (S) Reactive polyol for 1 part coatings; (S) Reactive polyol for 2 part coatings; (S) Reactive polyol for composites; (G) Reactive polymer; (G) Reactive polymer; (S) Reactive modifier for carbon (powder EPF); (S) Reactive modifier for carbon (liquid EPF); (S) Reactive modifier for fiber bonding; (S) Reactive modifier for friction; (S) Reactive modifier for coated abrasives | (G) Modified phenol-formaldehyde resin.

In Table II. of this unit, EPA provides the following information (to the extent that such information is not claimed as CBI) on the NOCs received by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Received From 10/01/2018 to 10/31/2018
Case No. | Received date | Commencement date | If amendment, type of amendment | Chemical substance
J-18-0006 | 10/24/2018 | 09/25/2018 |  | (G) Biofuel-producing modified microorganism(s), with chromosomally-borne modifications.
J-18-0008 | 10/15/2018 | 09/12/2018 |  | (G) Biofuel-producing modified microorganism(s), with chromosomally-borne modifications.
P-11-0432A | 10/02/2018 | 09/10/2018 | The chemical name and CASRN submitted were not in agreement with the original PMN submission (P-110432) | (S) Tricyclo[7.3.3.15,11]heptasiloxane-3,7,14-triol, 1,3,5,7,9,11,14-heptakis(2,4,4-trimethylpentyl)-.
P-13-0071 | 10/29/2018 | 10/01/2018 |  | (G) Fatty acid amide chlorides.
P-14-0092 | 10/29/2018 | 10/01/2018 |  | (G) Fatty acid amide chloride.
P-15-0353 | 10/05/2018 | 09/27/2018 |  | (S) Fatty acids, c16 and c18-unsaturated, methyl esters, chlorinated.
P-15-0437 | 10/16/2018 | 10/12/2018 |  | (G) Flexible polyurethane methacrylate resin.
P-16-0207 | 10/18/2018 | 09/12/2018 |  | (G) Spiro tetrafluoroborate.
P-16-0483 | 10/23/2018 | 10/17/2018 |  | (G) Inorganic acids, metal salts, cmpds with modified hetereoaromatic casrn.
P-17-0007A | 10/08/2018 | 09/20/2018 | Updated generic name | (G) Dialkyl 7,10-dioxa, dithiahexadeca diene.
P-17-0207 | 10/04/2018 | 09/17/2018 |  | (G) 2-alkenoic acid, 2-alkyl-, 2-alkyl ester, polymer with alkyl 2-alkenoate, vinyl carbomonocyle, substituted alkyl 2-alkyl-2-alkenoate and alkyl 2-alkyl-2-alkenoate, tertiary alkyl peroxide-initiated.
P-17-0329 | 10/30/2018 | 10/26/2018 |  | (S) Ethanone, 1-[4-(4-chlorophenoxy)-2-(trifluoromethyl)phenyl]-.
P-17-0334 | 10/04/2018 | 09/28/2018 |  | (S) Benzamide, 2-(trifluoromethyl)-.
P-18-0040 | 10/11/2018 | 10/10/2018 |  | (G) Alkanedioic acid, polymers with alkanoic acid-dipentaerythritol reaction products, substituted alkanedioc acid, substituted alkanoic acid, isocyanato-(isocyanatoalkyl)-alkyl substituted carbomoncycle and alkyl substituted alkanediol.
P-18-0042 | 10/09/2018 | 10/05/2018 |  | (S) 2,5-furandione, polymer with 2-ethyl-2-(hydroxymethyl)-1,3-propanediol, 3a,4,5,6,7,7a-hexahydro-4,7-methano-1h-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0100 | 10/11/2018 | 10/09/2018 |  | (G) Substituted alkanoic acid, polymer with alkylcarbonate, alkanediols and isocyanate substituted carbomonocycles, sodium salt, alkenoic acid substituted polyol reaction products-blocked.

In Table III. of this unit, EPA provides the following information (to the extent such information is not subject to a CBI claim) on the test information received by EPA during this time period: The EPA case number assigned to the test information; the date the test information was received by EPA, the type of test information submitted, and chemical substance identity.

Table III—Test Information Received From 10/01/2018 to 10/31/2018
Case No. | Received date | Type of test information | Chemical substance
P-87-1436 | 10/3/2018 | QSAR Assessment Report on Vinyl Laurate; Skin Sensitization: Local Lymph Node Assay (OECD TG 429); Repeated Dose 90-Day Oral Toxicity in Rodents (OECD TG 408); Repeated Dose Toxicity and Repro/Devel Toxicity Screening (OECD TG 422); Chromosome Aberration Test (OECD TG 473); Gene Mutation Assay (OECD TG 476); Micronucleus Test (OECD TG 474); Prenatal Developmental Toxicity Study (OECD TG 414); Aquatic Toxicity—Daphnia (OECD TG 202); Aquatic Toxicity—Daphnia Reproductive (OECD TG 211); Aquatic Toxicity—Algal Growth (OECD TG 201); Ready Biodegradability (OECD TG 301); Dermal Irritation/Corrosion (OECD TG 404); Bacterial Reverse Mutation Assay—Ames Test (OECD 471); Fish Acute Toxicity (OECD TG 203); Activated Sludge Test (OECD TG 209); Acute Oral Toxicity (OECD TG 401); Acute Eye Irritation (OECD TG 405); Acute Dermal Toxicity (OECD TG 402), Site WWT Discharge Permit, Flow Chart of the existing Calvert City Waste Water process system | (S) Dodecanoic acid, ethenyl ester.
P-18-0300 | 10/8/2018 | Activated Sludge (ISO 18749), Acute Oral Toxicity (OECD 423), AMES Test (OECD 471), Skin Sensitization-Buehler Test (OECD 406), Ready Biodegradability (OECD 301A) | (G) Heteromonocycle, alkenoic 1:1 salt, polymer with alpha-(2-methyl-1-oxo-2-propen-1-y)l-omegamethoxypoly(oxy-1,2-ethanediyl) and ethylalkenoic acid.
P-18-0051 | 10/11/2018 | Hydrolysis as a Function of pH | (G) Alkenoic acid, reaction products with [Oxybis(alkylene)]bis[(substituted alkyl)-alkanediol], polymers with isocyanatoalkane and substituted alkanoic acid, substituted monoacrylate alkanoate-blocked.
P-18-0126 | 10/12/2018 | Activated Sludge, Respiration Inhibition Test (Carbon and Ammonium Oxidation) (OECD 209), Algae Growth Inhibition Study in Pseudokirchneriella subcapitata (OECD 201), 48-hour Acute Immobilization Study in Daphnia magna (OECD 202) | (S) Calcium manganese titanium oxide.
SN-18-0013 | 10/15/2018 | Particle Size Distribution | (G) Lithiated metal oxide.
P-18-0270-0271 | 10/18/2018 | Algae Acute Toxicity (OCSPP 850.5400), Daphnia Acute Toxicity (OCSPP 850.1010, Fish Acute Toxicity (OCSPP 850.1075), Algae Acute Toxicity (OCSPP 850.5400), Daphnia Acute Toxicity (OCSPP 850.1010), Fish Acute Toxicity (OCSPP 850.1075) | (G) Ethanol, 2-butoxy-, 1,1′-ester (G) 2-Propanol, 1-butoxy-, 2,2′-ester.
P-15-0054 | 10/24/2018 | Physical Chemistry Data (Year 3 Reporting): • TEM, SEM, AFM Raman • XPS ICP ESD • XRD Zeta Potential | (S) Carbon Nanotube.
P-16-0543 | 10/24/2018 | Exposure Monitoring Report (September 27) | (G) halogenophosphoric acid metal salt.
P-18-0309 | 10/26/2018 | Skin Irritation (OECD 404) | (G) alkanedioic acid, 2-alkylene-, polymer with polyhaloaromatic arylate, sodium salt, hydroxyalkyl alkanoate, alkanoic acid, alkenyl-hydroxypoly(oxy-1,2-ethanediyl-alkenyloxymethylalkyoxy polyoxy-1,2-ethandiyl.
P-17-0187 | 10/26/2018 | Skin Irritation (OECD 404) | (G) Polymer with benzoic acid tetra halogen hydroxy tetrahalogen oxo H xanthenyl alkenylaryl alkyl ester alkalai metal salt, butyl-2-propenoate, ethenyl neodecanoate, methyl-2-methyl-2- propenoate and 2-methyl-2-propenoic acid.

If you are interested in information that is not included in these tables, you may contact EPA's technical information contact or general information contact as described under FOR FURTHER INFORMATION CONTACT to access additional non-CBI information that may be available.

Authority: 15 U.S.C. 2601 et seq.

Dated: March 19, 2019.
Pamela Myrick,
Director, Information Management Division, Office of Pollution Prevention and Toxics.

[FR Doc. 2019-06557 Filed 4-3-19; 8:45 am]

BILLING CODE 6560-50-P